DEPARTMENT OF TRANSPORTATION

Maritime Administration

Merchant Marine Academy Board of Visitors; Public Meeting

AGENCY: Maritime Administration, Transportation (DOT).

ACTION: Notice of public meeting.

SUMMARY: The U.S. Department of Transportation, Maritime Administration announces a meeting of the U.S. Merchant Marine Academy Board of Visitors (BOV).

DATES: The meeting will be held on September 16, 2020, from 11:00 a.m. to 2:00 p.m. EDT.

Requests to attend the meeting must be received by September 14, 2020.

Requests to submit written materials to be reviewed during the meeting must be received no later than September 14, 2020.

Requests for accommodations to a disability must be received by September 11, 2020.

USMMA will post virtual meeting access details no later than September 14, 2020, via its website and Social Media channels.

ADDRESSES: The meeting will be held through a virtual forum. General information about the committee, is available on the USMMA BOV internet website at https://www.usmma.edu/about/leadership/board-visitors. Meeting access information will also be available at https://www.usmma.edu/about/leadership/board-visitors on the date specified in the DATES section.

FOR FURTHER INFORMATION CONTACT: The BOV's Designated Federal Officer and Point of Contact, George Rhynedance, 516-726-6048 or rhynedanceg@usmma.edu. Any committee related request should be sent to the person listed in this section.

SUPPLEMENTARY INFORMATION:

I. Background

The USMMA BOV is a Federal Advisory Committee originally established as a Congressional Board by Section 51312 of Title 46, United States Code “to provide independent advice and recommendations on matters relating to the United States Merchant Marine Academy.” The Board was chartered under the Federal Advisory Committee Act (FACA) on October 25, 2019.

II. Agenda

At the meeting, the agenda will cover the following topics:

1. Update the Board on USMMA actions during the coronavirus disease 2019 (COVID-19) public health emergency, specifically:

(a) The return, licensing, and graduation of the Class of 2020

(b) The return and preparation for Sea Year of the B-Split members of the Class of 2023

(c) The return of the Indoctrination cadre and their preparation for Indoctrination training

(d) The reception and training of the Class of 2024

(e) The return of the remainder of the Regiment of Midshipmen

2. Provide an update on the Real Property Master Plan

3. Provide an update on the status of the NAPA study

4. Discuss minority recruiting efforts for the Class of 2025

The agenda is about 2 hours and 15 minutes in length, with the remaining portion of the third hour held for additional discussion and questions.

III. Public Participation

This meeting is open to the public and will be held through a virtual forum. Members of the public who wish to attend in person must RSVP to the person listed in the FOR FURTHER INFORMATION CONTACT section with your name and affiliation. The U.S. Department of Transportation is committed to providing equal access to this meeting for all participants. If you need alternative formats or services because of a disability, such as sign language, interpretation, or other ancillary aids, please contact the person listed in the FOR FURTHER INFORMATION CONTACT section.

Any member of the public is permitted to file a written statement with the BOV. Written statements should be sent to the Designated Federal Officer listed in the FOR FURTHER INFORMATION CONTACT section (Please contact the Designated Federal Officer for information on submitting comments via fax). Only written statements will be considered by the BOV; no member of the public will be allowed to present questions from the floor or speak during the meeting unless requested to do so by a member of the Board.

(Authority: 46 U.S.C. 51312; 5 U.S.C. 552b; 5 U.S.C. App. 2; 41 CFR parts 102-3.140 through 102-3.165)

Date: August 25, 2020.
By Order of the Maritime Administrator.
T. Mitchell Hudson, Jr.,
Secretary, Maritime Administration.

[FR Doc. 2020-19013 Filed 8-27-20; 8:45 am]

BILLING CODE 4910-81-P